DEPARTMENT OF THE INTERIOR

National Park Service

[NPS-WASO-NAGPRA-NPS0034489; PPWOCRADN0-PCU00RP14.R50000]

Notice of Inventory Completion: History Colorado, Formerly Colorado Historical Society, Denver, CO

AGENCY: National Park Service, Interior.

ACTION: Notice.

SUMMARY: History Colorado, formerly Colorado Historical Society, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to History Colorado. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to History Colorado at the address in this notice by October 12, 2022.

FOR FURTHER INFORMATION CONTACT: Glenys Echavarri, History Colorado, 1200 Broadway, Denver, CO 80203, telephone (303) 866-4531, email glenys.echavarri@state.co.us.

SUPPLEMENTARY INFORMATION: Notice is here given in accordance with the Native American Graves Protection and Repatriation Act (NAGPRA), 25 U.S.C. 3003, of the completion of an inventory of human remains and associated funerary objects under the control of History Colorado, Denver, CO. The human remains and associated funerary objects were removed from site 5LP.2223 in La Plata County, CO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by History Colorado professional staff in consultation with representatives of the Fort Sill Apache Tribe of Oklahoma; Hopi Tribe of Arizona; Jicarilla Apache Nation, New Mexico; Mescalero Apache Tribe of the Mescalero Reservation, New Mexico; Navajo Nation, Arizona, New Mexico, & Utah; Ohkay Owingeh, New Mexico (previously listed as Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo (previously listed as Kewa Pueblo, New Mexico, and as Pueblo of Santo Domingo); Southern Ute Indian Tribe of the Southern Ute Reservation, Colorado; Ute Indian Tribe of the Uintah & Ouray Reservation, Utah; Ute Mountain Ute Tribe (previously listed as Ute Mountain Tribe of the Ute Mountain Reservation, Colorado, New Mexico, & Utah); and the Zuni Tribe of the Zuni Reservation, New Mexico (hereafter referred to as “The Consulted Tribes”).

History and Description of the Remains

From 2018 to 2020, human remains representing, at minimum, 19 individuals were removed from archeological site 5LP.2223 in La Plata County, CO, by Alpine Archaeological Consultants, during archeological monitoring and excavations as part of the US 550/160 South Connection project, a highway construction project jointly undertaken by the Colorado Department of Transportation (CDOT) and the Federal Highway Administration (FHWA). The site is in the CDOT right of way. Under the Colorado Unmarked Human Graves Statute (Colo. Rev. Stat. sections 24-80-1301-1305), Native American human remains found on state or private land in Colorado fall under the jurisdiction of the Office of the State Archaeologist. This matter was assigned Office of Archaeology and Historic Preservation Case Number 340. No known individuals were identified. The 12 associated funerary objects are one deer phalanx, two lots of fish bones, one lot of shell bead fragments, and eight lots of ceramics.

In 2002, consultation regarding the US 550/160 project was initiated by CDOT with representatives of The Consulted Tribes with an established interest in La Plata County, CO. The Hopi Tribe of Arizona; Pueblo of Laguna, New Mexico; and the Southern Ute Indian Tribe of the Southern Ute Reservation, Colorado indicated their cultural affiliation with the proposed areas of construction and entered into agreements with CDOT, FHWA, the Advisory Council on Historic Preservation, and the Colorado State Historic Preservation Office. During these consultations, it was determined that inadvertently discovered human remains from this project would be culturally affiliated with the Hopi Tribe of Arizona; Pueblo of Laguna, New Mexico; and the Southern Ute Indian Tribe of the Southern Ute Reservation, Colorado (hereafter referred to as “The Tribes”).

Determinations Made by History Colorado

Officials of History Colorado have determined that:

• Pursuant to 25 U.S.C. 3001(9), the human remains described in this notice represent the physical remains of 19 individuals of Native American ancestry.

• Pursuant to 25 U.S.C. 3001(3)(A), the 12 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Glenys Echavarri, History Colorado, 1200 Broadway, Denver, CO 80203, telephone (303) 866-4531, email glenys.echavarri@state.co.us, by October 12, 2022. After that date, if no additional requestors have come forward, transfer of control of the human remains and associated funerary objects to The Tribes may proceed.

History Colorado is responsible for notifying The Consulted Tribes that this notice has been published.

Dated: September 1, 2022.
Melanie O'Brien,
Manager, National NAGPRA Program.

[FR Doc. 2022-19616 Filed 9-9-22; 8:45 am]

BILLING CODE 4312-52-P